DEPARTMENT OF COMMERCE

International Trade Administration

[A-580-816]

Notice of Amended Final Results of the Eleventh Administrative Review of the Antidumping Duty Order on Certain Corrosion-Resistant Carbon Steel Flat Products from the Republic of Korea.

AGENCY: Import Administration, International Trade Administration, Department of Commerce.

SUMMARY: On February 13, 2006, the Department of Commerce (the Department) published its final results of the eleventh administrative review for certain corrosion-resistant carbon steel flat products (CORE) from the Republic of Korea (Korea) for the period from August 1, 2003 through July 31, 2004. See Notice of Final Results of the Eleventh Administrative Review of the Antidumping Duty Order on Certain Corrosion-Resistant Carbon Steel Flat Products from the Republic of Korea, 71 FR 7513 (February 13, 2006), (Final Results).

We are amending our Final Results to correct a ministerial error made in the calculation of the dumping margin for Union Steel Manufacturing Co., Ltd. (Union), pursuant to section 751 (h) of the Tariff Act of 1930, as amended (the Act).

EFFECTIVE DATE: March 20, 2006.

FOR FURTHER INFORMATION CONTACT: Jolanta Lawska, AD/CVD Operations, Office 3, Import Administration, International Trade Administration, U.S. Department of Commerce, 14th Street and Constitution Avenue NW, Washington, DC 20230; telephone: (202) 482-8362.

SUPPLEMENTARY INFORMATION:

Background

On February 13, 2006, the Department published its final results of the eleventh administrative review for certain corrosion-resistant carbon steel flat products (CORE) from Korea for the period from August 1, 2003 through July 31, 2004. See Final Results.

On February 13, 2006, pursuant to 19 CFR 351.224(c), Pohang Iron & Steel Company, Ltd. and Pohang Coated Steel Co., Ltd., (collectively, the POSCO Group) submitted comments alleging ministerial errors. On February 17, 2006, United States Steel Corporation (U.S. Steel) requested that the Department correct certain alleged ministerial errors. On February 15 and 22, 2006, pursuant to 19 CFR 351.224(c)(3), Mittal Steel USA ISG Inc. (Mittal); and Dongbu Steel Co., Ltd. (Dongbu), the POSCO Group and Union (collectively, respondents), submitted rebuttal comments regarding ministerial errors.

The Department received one clerical error allegation from the POSCO Group regarding the treatment of the POSCO Group's indirect selling and commission expenses and two clerical error allegations from U.S. Steel regarding calculation of constructed export price profit for Union, and the treatment of respondents' laminated products by the Department. Respondents argued in their rebuttal briefs that the Department should reject U.S. Steel's clerical error allegations submission because it was filed untimely. On February 13, 2006, the Department granted an extension to U.S. Steel until February 17, 2006 to file its comments.¹

¹ See The Department's February 13, 2006, letter to Skadden, Arps, Slate, Meagher and Flom, LLP.

Scope of the Order

This order covers cold-rolled (cold-reduced) carbon steel flat-rolled carbon steel products, of rectangular shape, either clad, plated, or coated with corrosion-resistant metals such as zinc, aluminum, or zinc-, aluminum-, nickel- or iron-based alloys, whether or not corrugated or painted, varnished or coated with plastics or other nonmetallic substances in addition to the metallic coating, in coils (whether or not in successively superimposed layers) and of a width of 0.5 inch or greater, or in straight lengths which, if of a thickness less than 4.75 millimeters, are of a width of 0.5 inch or greater and which measures at least 10 times the thickness or if of a thickness of 4.75 millimeters or more are of a width which exceeds 150 millimeters and measures at least twice the thickness, as currently classifiable in the Harmonized Tariff Schedule of the United States (HTSUS) under item numbers 7210.30.0030, 7210.30.0060, 7210.41.0000, 7210.49.0030, 7210.49.0090, 7210.61.0000, 7210.69.0000, 7210.70.6030, 7210.70.6060, 7210.70.6090, 7210.90.1000, 7210.90.6000, 7210.90.9000, 7212.20.0000, 7212.30.1030, 7212.30.1090, 7212.30.3000, 7212.30.5000, 7212.40.1000, 7212.40.5000, 7212.50.0000, 7212.60.0000, 7215.90.1000, 7215.90.3000, 7215.90.5000, 7217.20.1500, 7217.30.1530, 7217.30.1560, 7217.90.1000, 7217.90.5030, 7217.90.5060, 7217.90.5090. Included in this order are corrosion-resistant flat-rolled products of nonrectangular cross-section where such cross-section is achieved subsequent to the rolling process (i.e., products which have been “worked after rolling”) for example, products which have been beveled or rounded at the edges. Excluded from this order are flat-rolled steel products either plated or coated with tin, lead, chromium, chromium oxides, both tin and lead (“terne plate”), or both chromium and chromium oxides (“tin-free steel”), whether or not painted, varnished or coated with plastics or other nonmetallic substances in addition to the metallic coating. Also excluded from this order are clad products in straight lengths of 0.1875 inch or more in composite thickness and of a width which exceeds 150 millimeters and measures at least twice the thickness. Also excluded from this order are certain clad stainless flat-rolled products, which are three-layered corrosion-resistant carbon steel flat-rolled products less than 4.75 millimeters in composite thickness that consist of a carbon steel flat-rolled product clad on both sides with stainless steel in a 20%-60%-20% ratio. These HTSUS item numbers are provided for convenience and customs purposes. The written descriptions remain dispositive.

Amended Final Results of Review

After analyzing all interested parties' comments and rebuttal comments, we have determined, in accordance with section 751(h) of the Act and 19 CFR 351.224, that the Department has made a ministerial error in the final results calculation for Union in this administrative review. For a detailed discussion of all ministerial errors, and our analysis, see Memorandum from Victoria Cho, Jolanta Lawska and Preeti Tolani to Melissa Skinner, re: Allegations of Ministerial Errors, dated March 13, 2006 (Amended Final Issues and Decision Memorandum).

Therefore, in accordance with section 751(h) of the Act, we are amending the final results of sales at less than fair value in the antidumping duty administrative review of CORE from Korea for the period August 1, 2003 to July 31, 2004. As a result of correcting the ministerial error discussed in the Amended Final Issues and Decision Memorandum, Union's weighted-average dumping margin increased from 1.54 percent to 1.60 percent. For the remaining respondents, the weighted-average dumping margins remain the same. See Final Results.

Duty Assessment and Cash Deposit Requirements

The Department will determine, and U.S. Customs and Border Protection (CBP) shall assess, antidumping duties on all appropriate entries. The Department will issue appropriate assessment instructions directly to CBP within 15 days of publication of the amended final results of this review, where injunctions are not in place.

Further, the following cash-deposit requirements will be effective upon publication of these final amended results of the administrative review for shipments of the subject merchandise entered, or withdrawn from warehouse, for consumption on or after the publication date of these final amended results, as provided by section 751(a)(2)(C) of the Act. (1) for subject merchandise exported by Union the cash-deposit rate will be 1.60 percent. (2) For Dongbu, HYSCO and POSCO the cash deposit rate will remain as established in the Final Results. These deposit requirements shall remain in effect until publication of the final results of the next administrative review.

These final amended results of administrative review and notice are issued and published in accordance with sections 751(a)(1) and (h), and 777(i)(1) of the Act, and 19 CFR 351.224.

Dated: March 13, 2006.
David M. Spooner,
Assistant Secretary for Import Administration.

[FR Doc. E6-3989 Filed 3-17-06; 8:45 am]

BILLING CODE 3510-DS-S